DEPARTMENT OF COMMERCE

International Trade Administration

Safety and Security Business Development Mission to Morocco, Algeria and Egypt

AGENCY: International Trade Administration, Department of Commerce.

ACTION: Notice; extension of application deadline.

SUMMARY: The United States Department of Commerce, International Trade Administration is amending a notice published May 5, 2014, for the Safety and Security Business Development Mission to Morocco, Algeria and Egypt (March 4-12, 2015) to extend the date of the application deadline from January 15, 2015, to the new deadline of January 30, 2015.

DATES: The application deadline for the notice published May 5, 2014, at 79 FR 10205, is extended to January 30, 2015.

SUPPLEMENTARY INFORMATION:

Amendment To Revise the Application Deadline

Background

Recruitment for this Mission began in May 2014. Due to November & December 2014 holidays, it has been determined that additional time is needed to allow for additional recruitment and marketing in support of the mission. Applications will now be accepted through January 30, 2015 (and after that date if space remains and scheduling constraints permit). Interested companies that have not already submitted an application are encouraged to do so.

Amendments

For the reasons stated above, the last paragraph of the Timeframe for Recruitment and Application section is amended to allow for applications to be accepted through January 30, 2015. “Recruitment for this mission will conclude no later than January 30, 2015. The U.S. Department of Commerce will review applications and make selection decisions as quickly as possible. Applications received after January 30, 2015, will be considered only if space and scheduling constraints permit.”

FOR FURTHER INFORMATION CONTACT: Trade Missions Office, Arica Young, U.S. Department of Commerce, Washington, DC, Tel: 613-317-7538, Email: Arica.Young@trade.gov.

Baltimore U.S. Export Assistance Center, Paul Matino, Tel: 410-962-4539 Ext. 108, Email: Paul.Matino@trade.gov.

U.S. Embassy Cairo, Egypt, Ann Bacher, Regional Senior Commercial Officer, Tel: +20-2-2797-2298, Fax: + 20-2-2795-8368, Email: Ann.Bacher@trade.gov.

Frank Spector,
International Trade Specialist.

[FR Doc. 2015-01633 Filed 2-2-15; 8:45 am]

BILLING CODE 3510-DR-P